DEPARTMENT OF JUSTICE

Office of Justice Programs

Agency Information Collection Activities: Proposed Collection; Comments Requested

ACTION: 30-day notice of information collection under review: State Court Organization, 2004.

The Department of Justice (DOJ), Office of Justice Programs (OJP) has submitted the following information collection request to the Office of Management and Budget (OMB) for review and approval in accordance with the Paperwork Reduction Act of 1995. The proposed information collection is published to obtain comments from the public and affected agencies. This proposed information collection was previously published in the Federal Register volume 68, number 69, on page 57 on March 24, 2004, allowing for a 60 day comment period.

The purpose of this notice is to allow for an additional 30 days for public comment until July 16, 2004. This process is conducted in accordance with 5 CFR 1320.10.

Written comments and/or suggestions regarding the items contained in this notice, especially the estimated public burden and associated response time, should be directed to the Office of Management and Budget, Office of Information and Regulatory Affairs, Attention Department of Justice Desk Officer. Washington, DC 20503. Additionally, comments may be submitted to OMB via facsimile to (202) 395-5806. Written comments and suggestions from the public and afected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of this information collection:

(1) Type of Information Collection: New collection.

(2) Title of the Form/Collection: State Court Organization, 2004.

(3) Agency Form Number, if any, and the Applicable Component of the Department of Justice Sponsoring the Collection: Form Number: SP-1, Office of Justice Programs.

(4) Affected Public who Will be Asked or Required To Respond, as Well as a Brief Abstract: Primary: State Trial and Appellate Courts. 42 U.S.C. 3711, et seq. authorizes the Department of Justice to collect and analyze statistical information concerning crime, juvenile delinquency, the operation of the criminal justice system and related aspects of the civil justice system, and to support the development of information and statistical systems at the Federal, State, and local levels.

(5) An Estimate of the Total Number of Respondents and the Amount of Time Estimated for an Average Respondent To Respond: An estimated 53 copies of a two part data collection survey will be submitted to the State Court Administration in each State and that 99 copies of appellate court surveys will be submitted to the Intermediate Appellate Clerk and the Clerk for the Court of Last Resort in each State.

(6) An Estimate of the Total Public Burden (in Hours) Associated With the Collection: The estimated total burden hours associated with this information collection is 1,216.

FOR FURTHER INFORMATION CONTACT: Brenda E. Dyer, Department Deputy Clearance Officer, United States Department of Justice, Justice Management Division, Policy and Planning Staff, Patrick Henry Building, Suite 1600, 601 D Street, NW., Washington, DC 20530.

Dated: June 9, 2004.
Brenda E. Dyer,
Department Deputy Clearance Officer, Department of Justice.

[FR Doc. 04-13528 Filed 6-15-04; 8:45 am]

BILLING CODE 4410-18-M